DEPARTMENT OF ENERGY

Federal Energy Regulatory Commission

Combined Notice of Filings #1

Take notice that the Commission received the following electric corporate filings:

Docket Numbers: EC15-160-000.

Applicants: Westar Energy, Inc.

Description: Application for Authorization for Consolidation of Jurisdictional Facilities and Request for Expedited Action and Certain Waivers of Westar Energy, Inc.

Filed Date: 6/29/15.

Accession Number: 20150629-5304.

Comments Due: 5 p.m. ET 7/20/15.

Take notice that the Commission received the following exempt wholesale generator filings:

Docket Numbers: EG15-100-000.

Applicants: Greenleaf Energy Unit 1 LLC.

Description: Notice of Self-Certification of Greenleaf Energy Unit 1 LLC as an EWG.

Filed Date: 6/29/15.

Accession Number: 20150629-5145.

Comments Due: 5 p.m. ET 7/20/15.

Docket Numbers: EG15-101-000.

Applicants: Slate Creek Wind Project, LLC.

Description: Notice of Self-Certification of Exempt Wholesale Generator Status of Slate Creek Wind Project, LLC.

Filed Date: 6/29/15.

Accession Number: 20150629-5263.

Comments Due: 5 p.m. ET 7/20/15.

Take notice that the Commission received the following electric rate filings:

Docket Numbers: ER10-1959-004; ER15-2026-001; ER15-2025-001; ER15-2024-001; ER15-2023-001; ER15-2022-001; ER15-2020-001; ER15-2018-001; ER15-2016-001; ER15-2015-001; ER15-2014-001; ER15-2013-001; ER13-2308-003; ER12-2513-005; ER12-2512-005; ER12-2511-005; ER12-2510-005; ER10-2499-001; ER10-2446-008; ER10-2444-008; ER10-2442-008; ER10-2440-008; ER10-2435-008; ER10-2432-008.

Applicants: Lower Mount Bethel Energy, LLC, Brunner Island, LLC, Holtwood, LLC, Martins Creek, LLC, Montour, LLC, Susquehanna Nuclear, LLC, Talen Energy Marketing, LLC, Talen Ironwood, LLC, Talen Montana, LLC, Talen New Jersey Biogas, LLC, Talen New Jersey Solar, LLC, Talen Renewable Energy, LLC, Brandon Shores LLC, H.A. Wagner LLC, Raven Power Marketing LLC, Bayonne Plant Holding, L.L.C., Camden Plant Holding, L.L.C., Dartmouth Power Associates Limited Partnership, Newark Bay Cogeneration Partnership L.P., Pedricktown Cogeneration Company LP, Sapphire Power Marketing LLC, York Generation Company LLC, C.P. Crane LLC, Elmwood Park Power, LLC.

Description: Notice of Change in Status of the Talen Energy Corporation public utility subsidiaries.

Filed Date: 6/26/15.

Accession Number: 20150626-5333.

Comments Due: 5 p.m. ET 7/17/15.

Docket Numbers: ER10-2331-032; ER14-630-009; ER10-2319-024; ER10-2317-024; ER10-2326-030; ER14-1468-008; ER13-1351-006; ER10-2330-031.

Applicants: J.P. Morgan Ventures Energy Corporation, AlphaGen Power LLC, BE Alabama LLC, BE CA LLC, Cedar Brakes I, L.L.C., KMC Thermo, LLC, Florida Power Development LLC, Utility Contract Funding, L.L.C.

Description: Notice of Non-Material Change in Status of the JP Morgan Sellers.

Filed Date: 6/29/15.

Accession Number: 20150629-5258.

Comments Due: 5 p.m. ET 7/20/15.

Docket Numbers: ER15-1494-002.

Applicants: Convergent Energy and Power Inc.

Description: Tariff Amendment: Petition for Acceptance of Initial Tariff, Waivers and Blanket Authority to be effective 6/15/2015.

Filed Date: 6/30/15.

Accession Number: 20150630-5083.

Comments Due: 5 p.m. ET 7/21/15.

Docket Numbers: ER15-2060-000.

Applicants: Maine Electric Power Company, Inc.

Description: Section 205(d) Rate Filing: Amended & Restated Second E&P Agmt with Number Nine Wind Farm LLC to be effective 6/29/2015.

Filed Date: 6/29/15.

Accession Number: 20150629-5234.

Comments Due: 5 p.m. ET 7/20/15.

Docket Numbers: ER15-2061-000.

Applicants: Consumers Energy Company.

Description: Tariff Cancellation: Cancel Tariff ID to be effective 6/30/2015.

Filed Date: 6/29/15.

Accession Number: 20150629-5245.

Comments Due: 5 p.m. ET 7/20/15.

Docket Numbers: ER15-2062-000.

Applicants: Consumers Energy Company.

Description: Compliance filing: Administrative Re-File to be effective 6/30/2015.

Filed Date: 6/29/15.

Accession Number: 20150629-5246.

Comments Due: 5 p.m. ET 7/20/15.

Docket Numbers: ER15-2063-000.

Applicants: Rising Tree Wind Farm LLC.

Description: Section 205(d) Rate Filing: Amended SFA to be effective 8/29/2015.

Filed Date: 6/29/15.

Accession Number: 20150629-5248.

Comments Due: 5 p.m. ET 7/20/15.

Docket Numbers: ER15-2064-000.

Applicants: Rising Tree Wind Farm III LLC.

Description: Section 205(d) Rate Filing: Amended SFA to be effective 8/29/2015.

Filed Date: 6/29/15.

Accession Number: 20150629-5249.

Comments Due: 5 p.m. ET 7/20/15.

Docket Numbers: ER15-2065-000.

Applicants: Rising Tree Wind Farm II LLC.

Description: Section 205(d) Rate Filing: Amended SFA to be effective 8/29/2015.

Filed Date: 6/29/15.

Accession Number: 20150629-5251.

Comments Due: 5 p.m. ET 7/20/15.

Docket Numbers: ER15-2066-000.

Applicants: Rising Tree Wind Farm LLC.

Description: Section 205(d) Rate Filing: Amended Co-Tenancy Agmnt to be effective 8/29/2015.

Filed Date: 6/30/15.

Accession Number: 20150630-5000.

Comments Due: 5 p.m. ET 7/21/15.

Docket Numbers: ER15-2067-000.

Applicants: Rising Tree Wind Farm III LLC.

Description: Section 205(d) Rate Filing: Amended Co-Tenancy Agmnt to be effective 8/29/2015.

Filed Date: 6/30/15.

Accession Number: 20150630-5002.

Comments Due: 5 p.m. ET 7/21/15.

Docket Numbers: ER15-2068-000.

Applicants: Rising Tree Wind Farm II LLC.

Description: Section 205(d) Rate Filing: Amended Co-Tenancy Agmnt to be effective 8/29/2015.

Filed Date: 6/30/15.

Accession Number: 20150630-5003.

Comments Due: 5 p.m. ET 7/21/15.

Docket Numbers: ER15-2069-000.

Applicants: NorthWestern Corporation.

Description: Application of NorthWestern Corporation regarding Formula Rate and Protocols to be included in Southwest Power Pool, Inc.'s Tariff.

Filed Date: 6/29/15.

Accession Number: 20150629-5293.

Comments Due: 5 p.m. ET 7/20/15.

Docket Numbers: ER15-2070-000.

Applicants: Vermont Transco, LLC.

Description: Section 205(d) Rate Filing: Vermont Transco LLC Updated Exhibit A for the 1991 Transmission Agreement to be effective 7/1/2015.

Filed Date: 6/30/15.

Accession Number: 20150630-5106.

Comments Due: 5 p.m. ET 7/21/15.

Docket Numbers: ER15-2071-000.

Applicants: NorthWestern Corporation.

Description: Section 205(d) Rate Filing: SA 31 13th Revised—NITSA with ConocoPhillips Company to be effective 9/1/2015.

Filed Date: 6/30/15.

Accession Number: 20150630-5148.

Comments Due: 5 p.m. ET 7/21/15.

Docket Numbers: ER15-2072-000.

Applicants: Cedar Brakes I, L.L.C.

Description: Tariff Cancellation: Notice of cancellation to be effective 6/30/2015.

Filed Date: 6/30/15.

Accession Number: 20150630-5168.

Comments Due: 5 p.m. ET 7/21/15.

Docket Numbers: ER15-2073-000.

Applicants: Consolidated Water Power Company.

Description: Compliance filing: Amendment to be effective 7/1/2015.

Filed Date: 6/30/15.

Accession Number: 20150630-5169.

Comments Due: 5 p.m. ET 7/21/15.

Docket Numbers: ER15-2074-000.

Applicants: Escanaba Paper Company.

Description: Compliance filing: Amendment to be effective 7/1/2015.

Filed Date: 6/30/15.

Accession Number: 20150630-5171.

Comments Due: 5 p.m. ET 7/21/15.

Docket Numbers: ER15-2075-000.

Applicants: Southwest Power Pool, Inc.

Description: Section 205(d) Rate Filing: North Western Corporation (South Dakota) Formula Rate to be effective 10/1/2015.

Filed Date: 6/30/15.

Accession Number: 20150630-5175.

Comments Due: 5 p.m. ET 7/21/15.

Docket Numbers: ER15-2076-000.

Applicants: NewPage Energy Services, LLC.

Description: Compliance filing: Amendment to be effective 7/1/2015.

Filed Date: 6/30/15.

Accession Number: 20150630-5176.

Comments Due: 5 p.m. ET 7/21/15.

Docket Numbers: ER15-2077-000.

Applicants: Duke Energy Florida, Inc.

Description: Section 205(d) Rate Filing: City of Williston Amendment RS No. 220 to be effective 1/1/2015.

Filed Date: 6/30/15.

Accession Number: 20150630-5177.

Comments Due: 5 p.m. ET 7/21/15.

Docket Numbers: ER15-2078-000.

Applicants: Talen Energy Marketing, LLC.

Description: Section 205(d) Rate Filing: Notice of Succession to Reactive Tarifff to be effective 6/30/2015.

Filed Date: 6/30/15.

Accession Number: 20150630-5187.

Comments Due: 5 p.m. ET 7/21/15.

Docket Numbers: ER15-2079-000.

Applicants: New York Independent System Operator, Inc., New York State Electric & Gas Corporation.

Description: Section 205(d) Rate Filing: NYISO 205 filing EPC agreement among NYISO, NYSEG and CPV Valley to be effective 6/9/2015.

Filed Date: 6/30/15.

Accession Number: 20150630-5206.

Comments Due: 5 p.m. ET 7/21/15.

Docket Numbers: ER15-2080-000.

Applicants: PJM Interconnection, L.L.C.

Description: Section 205(d) Rate Filing: Original WMPA Service Agreement No. 4186; Queue No. Z1-068 to be effective 6/16/2015.

Filed Date: 6/30/15.

Accession Number: 20150630-5234.

Comments Due: 5 p.m. ET 7/21/15.

Take notice that the Commission received the following electric reliability filings:

Docket Numbers: RR15-10-000.

Applicants: North American Electric Reliability Corporation.

Description: Supplement to May 29, 2015 North American Electric Reliability Corporation's Report of Budgeted to Actual Costs for 2014 for NERC and the Regional Entities under RR15-10.

Filed Date: 6/29/15.

Accession Number: 20150629-5298.

Comments Due: 5 p.m. ET 7/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2015.
Nathaniel J. Davis, Sr.,
Deputy Secretary.

[FR Doc. 2015-16602 Filed 7-6-15; 8:45 am]

BILLING CODE 6717-01-P